DEPARTMENT OF DEFENSE

Office of the Secretary

Defense Business Board; Notice of Federal Advisory Committee Meeting

AGENCY: Office of the Deputy Secretary of Defense, Department of Defense (DoD).

ACTION: Notice of Federal Advisory Committee meeting.

SUMMARY: The DoD is publishing this notice to announce that the following Federal Advisory Committee meeting of the Defense Business Board (“the Board”) will take place.

DATES: Closed to the public Tuesday, May 9, 2023 from 8:05 a.m. to 11:15 a.m., from 1:15 p.m. to 3:35 p.m., and from 5:30 p.m. to 7:35 p.m. and on May 10, 2023 from 10:58 a.m. to 11:50 a.m. Open to the public Wednesday, May 10, 2023 from 8:30 a.m. to 10:47 a.m. All times are in Eastern Time.

ADDRESSES: The open and closed portions of the meeting will be in rooms 1E840 and 4D880 in the Pentagon, Washington, DC, and at the National Reconnaissance Office, Chantilly, VA. The public portions of the meeting will be conducted by teleconference only. To participate in the public portion of the meeting, see the Meeting Accessibility section for instructions.

FOR FURTHER INFORMATION CONTACT: Ms. Jennifer Hill, Designated Federal Officer (DFO) of the Board in writing at Defense Business Board, 1155 Defense Pentagon, Room 5B1088A, Washington, DC 20301-1155; or by email at jennifer.s.hill4.civ@mail.mil; or by phone at 571-342-0070.

SUPPLEMENTARY INFORMATION: This meeting is being held under the provisions of chapter 10 of title 5, U.S.C. (commonly known as the “Federal Advisory Committee Act” or “FACA”), section 552b of title 5, U.S.C. (commonly known as the “Government in the Sunshine Act”), and 41 CFR 102-3.140 and 102-3.150.

Purpose of the Meeting: The mission of the Board is to examine and advise the Secretary of Defense on overall DoD management and governance. The Board provides independent, strategic-level, private sector and academic advice and counsel on enterprise-wide business management approaches and best practices for business operations and achieving National Defense goals.

Agenda: The Board will begin in closed session on May 9 from 8:05 a.m. to 11:15 a.m. The DFO will open the closed session followed by a welcome by Board Chair, Hon. Deborah James. The Board will receive a classified brief on Resourcing the Future Workforce by Chief of Staff of the Air Force, Gen Charles Q. Brown. It will then be followed by a classified brief on the DoD Budget from Deputy Secretary of Defense, Hon. Kathleen Hicks and Director of Cost Assessment and Program Evaluation Office, Hon. Susanna V. Blume. Next, the Board will have a classified panel discussion on Preparing the Industrial Base for Future Conflicts by Principal Deputy Assistant Secretary of the Army for Acquisition, Logistics & Technology, Mr. Young Bang; Principal Deputy Assistant Secretary of the Air Force Acquisition, Technology & Logistics, Mrs. Darlene Costello; and Former Commander of U.S. Transportation Command, GEN Stephen Lyons, USA (Ret.). The DFO will then adjourn the closed session. The Board will travel to the National Reconnaissance Office in Chantilly, VA and reconvene in closed session on May 9 at 1:15 p.m. with a classified panel discussion on the Current Challenges in Space Operations by Assistant Secretary of the Air Force for Space Acquisitions and Integration, Hon. Frank Calvelli; and National Reconnaissance Office Principal Deputy Director, Dr. Troy Meink; and an additional Space Operations representative. This will be followed up with a classified brief on Space Authorities by Dr. Meink. The DFO will adjourn the closed session, and the Board will return to the Pentagon. The Board will meet in closed session May 9 from 5:30 p.m. to 7:35 p.m. The DFO will open the closed session followed by remarks by Board Chair, Hon. Deborah James and Deputy Secretary of Defense, Hon. Kathleen Hicks. Next, the board will hear a classified brief on Marine Corps Modernization and Force Design 2030 by Assistant Commandant of the Marine Corps, Gen Eric M. Smith. The DFO will adjourn the closed session. The Board will begin in open session on May 10 from 8:30 a.m. to 10:47 a.m. The DFO will open the session and Hon. Deborah James will provide a Chair's welcome to members and guests. Next, the Board will receive a brief by the Chief Talent Management Officer, Office of the Undersecretary of Defense for Personnel & Readiness, Mr. Brynt Parmeter. This will then be followed with a panel discussion on Improving How We Do Business by Director of U.S. Army Office of Business Transformation, Mr. Robin Swan; Deputy Under Secretary of the Air Force, Management and Deputy Chief Management Officer, Mr. Richard Lombardi; Senior Advisor, United States Department of the Navy, Mr. Roger Dean Huffstetler; and Deputy Performance Improvement Officer, U.S. Department of Defense, Dr. Silvana Rubino-Hallman. The DFO will then adjourn the open session. After a short break, the DFO will open the closed session followed by a classified brief on DoD Current Affairs from Secretary of Defense, Hon. Lloyd Austin. Board Chair, Hon. Deborah James will provide closing remarks, and the DFO will adjourn the closed session. The latest version of the agenda will be available on the Board's website at: https://dbb.defense.gov/Meetings/Meeting-May-2023/.

Meeting Accessibility: In accordance with 5 U.S.C. 1009(d) and 41 CFR 102-3.155, it is hereby determined that portions of the May 9-10 meeting of the Board will include classified information and other matters covered by 5 U.S.C. 552b(c)(1) and that, accordingly, the meeting will be closed to the public on May 9, 2023 from 8:05 a.m. to 11:15 a.m., from 1:15 p.m. to 3:35 p.m., and from 5:30 p.m. to 7:35 p.m., and on May 10, 2023 from 10:58 a.m. to 11:50 a.m. This determination is based on the consideration that it is expected that discussions throughout these periods will involve classified matters of national security. Such classified material is so intertwined with the unclassified material that it cannot reasonably be segregated into separate discussions without defeating the effectiveness and meaning of these portions of the meeting. To permit these portions of the meeting to be open to the public would preclude discussion of such matters and would greatly diminish the ultimate utility of the Board's findings and recommendations to the Secretary of Defense and to the Deputy Secretary of Defense. Pursuant to section 5 U.S.C. 1009(a)(1) and 41 CFR 102-3.140, the portion of the meeting on May 10 from 8:30 a.m. to 10:47 a.m. is open to the public via teleconference. Persons desiring to attend the public session are required to register. To attend the public session, submit your name, affiliation/organization, telephone number, and email contact information to the Board at osd.pentagon.odam.mbx.defense-business-board@mail.mil. Requests to attend the public session must be received no later than 4:00 p.m. on Monday, May 8, 2023. Upon receipt of this information, the Board will provide further instructions for telephonically attending the meeting.

Written Comments and Statements: Pursuant to 41 CFR 102-3.105(j) and 102-3.140 and section 10(a)(3) of the FACA, the public or interested organizations may submit written comments or statements to the Board in response to the stated agenda of the meeting or regarding the Board's mission in general. Written comments or statements should be submitted to Ms. Jennifer Hill, the DFO, via electronic mail (the preferred mode of submission) at the address listed in the FOR FURTHER INFORMATION CONTACT section. Each page of the comment or statement must include the author's name, title or affiliation, address, and daytime phone number. The DFO must receive written comments or statements submitted in response to the agenda set forth in this notice by Monday, May 8, 2023, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: April 18, 2023.
Aaron T. Siegel,
Alternate OSD Federal Register Liaison Officer, Department of Defense.

[FR Doc. 2023-08521 Filed 4-21-23; 8:45 am]

BILLING CODE 5001-06-P